DEPARTMENT OF TRANSPORTATION

Federal Aviation Administration

Policy Statement PS-ACE100-2002-002, Installation Approval of Multi-Function Displays Using the Approved Model List (AML) Supplemental Type Certification (STC) Process

AGENCY: Federal Aviation Administration (FAA), DOT.

ACTION: Notice of issuance of policy

SUMMARY: This notice announces a revision to Policy Statement PS-ACE100-2002-002, Installation Approval of Multi-Function Displays Using the Approved Model List (AML) Supplemental Type Certification (STC) Process. Appendix A has been added to the original policy to describe a process for approval of multi-function displays that provide supplemental navigation information during Instrument Flight Rules (IFR) operation. Minor editorial changes to the policy statement have been incorporated.

DATES: Policy Statement Number PS-ACE100-2002-002 with Revision A was issued by the Manager, Small Airplane Directorate, ACE-100, Aircraft Certification Service, on May 21, 2003.

How To Obtain Copies: A paper copy of the Policy Statement Number PS-ACE100-2002-002 with the appendix may be obtained by contacting Barry Ballenger, Aerospace Engineer, FAA, Small Airplane Directorate, Continued Operational Safety, ACE-113, 901 Locust, Room 301, Kansas City, Missouri 64106; telephone: (816) 329-4152; facsimile: (816) 329-4149; e-mail: barry.ballenger@faa.gov. The policy revision with the appendix will also be available soon on the Internet at: http://www.airweb.faa.gov/policy.

SUPPLEMENTARY INFORMATION: The FAA encourages the use of the AML STC process for installation approval of MFDs.

Discussion

This appendix and policy statement do not introduce new policy or regulation but provide a compilation of existing regulation, guidance, and procedures in the application of the AML STC process for certification projects. The AML STC process may be used whenever the ACO and applicant agree that it is appropriate. The AML STC process may also be effective for a certification project of an aircraft under another certification basis. The applicant should coordinate with the appropriate ACO for final determination.

Issued in Kansas City, Missouri on May 21, 2003.
Michael Gallagher,
Manager, Small Airplane Directorate, Aircraft Certification Service.

[FR Doc. 03-14994 Filed 6-12-03; 8:45 am]

BILLING CODE 4910-13-P